DEPARTMENT OF COMMERCE

International Trade Administration

[A-520-807]

Circular Welded Carbon-Quality Steel Pipe From the United Arab Emirates: Final Results of Antidumping Duty Changed Circumstances Review

AGENCY: Enforcement and Compliance, International Trade Administration, Department of Commerce.

SUMMARY: On July 29, 2024, the U.S. Department of Commerce (Commerce) published the initiation and preliminary results of the changed circumstances review (CCR) of the antidumping duty (AD) order on circular welded carbon-quality steel pipe (CWP) from the United Arab Emirates (UAE). For these final results, Commerce continues to find that Universal Tube and Pipe Industries FZE (Universal Tube and Pipe), is the successor-in-interest to Universal Tube and Plastic Industries Limited (UTP). Additionally, we determine that Universal Tube and Pipe should be assigned UTP's cash deposit rate for purposes of the AD order.

DATES: Applicable September 17, 2024.

FOR FURTHER INFORMATION CONTACT: Genevieve Coen, AD/CVD Operations, Office II, Enforcement and Compliance, International Trade Administration, U.S. Department of Commerce, 1401 Constitution Avenue NW, Washington, DC 20230; telephone: (202) 482-3251.

SUPPLEMENTARY INFORMATION:

Background

On July 29, 2024, Commerce published the initiation and preliminary results of this expedited CCR, finding that Universal Tube and Pipe is the successor-in-interest to UTP, and should be assigned the same AD cash deposit rate assigned to UTP in the AD order on CWP from the UAE and provided all interested parties with an opportunity to comment.¹ No interested party submitted comments on the Initiation and Preliminary Results or requested a hearing. Accordingly, the final results remain unchanged from the Initiation and Preliminary Results.

¹ See Circular Welded Carbon-Quality Steel Pipe from the United Arab Emirates: Notice of Initiation and Preliminary Results of Antidumping Duty Changed Circumstances Review, 89 FR 60863 (July 29, 2024) (Initiation and Preliminary Results).

Scope of the Order

The products covered by the Order are CWP from the UAE. For a complete description of the scope of the Order, see the Initiation and Preliminary Results.

Final Results of CCR

For the reasons stated in the Initiation and Preliminary Results, and because we received no comments from interested parties to the contrary, Commerce continues to find Universal Tube and Pipe is the successor-in-interest to UTP for purposes of the AD order on CWP from the UAE. As a result of this determination and consistent with our practice, we find that Universal Tube and Pipe should receive the AD cash deposit rate previously assigned to UTP with respect to entries of subject merchandise in the above-noted proceeding. As there are no changes from the Initiation and Preliminary Results, there is no decision memorandum accompanying this notice and we are adopting the determination in the Initiation and Preliminary Results as the final results of this CCR.

Commerce will instruct U.S. Customs and Border Protection to suspend liquidation of all shipments of subject merchandise produced or exported by Universal Tube and Pipe and entered, or withdrawn from warehouse, for consumption on or after the publication date of this notice in the Federal Register at 1.00 percent, which is the current AD cash deposit rate for UTP.² These cash deposit requirements shall remain in effect until further notice.

² See Circular Welded Carbon-Quality Steel Pipe from the United Arab Emirates: Final Results of Antidumping Duty Administrative Review; 2021-2022, 89 FR 57128, 57130 (July 12, 2024).

Administrative Protective Order

This notice serves as the only reminder to parties subject to an administrative protective order (APO) of their responsibility concerning the disposition of proprietary information disclosed under APO in accordance with 19 CFR 351.305(a)(3). Timely written notification of the return/destruction of APO materials or conversion to judicial protective order is hereby requested. Failure to comply with the regulations and terms of an APO is a sanctionable violation.

Notification to Interested Parties

We are issuing this determination and publishing this notice in accordance with section 751(b)(1) and 777(i)(1) and (2) of the Tariff Act of 1930, as amended, and 19 CFR 351.216(e), 351.221(b), and 351.221(c)(3).

Dated: September 10, 2024.
Ryan Majerus,
Deputy Assistant Secretary for Policy and Negotiations, performing the non-exclusive functions and duties of the Assistant Secretary for Enforcement and Compliance.

[FR Doc. 2024-21082 Filed 9-16-24; 8:45 am]

BILLING CODE 3510-DS-P